DEPARTMENT OF HOUSING AND URBAN DEVELOPMENT

[Docket No. FR-5004-FA-03]

Announcement of Funding Awards for the Emergency Capital Repair Grant Program; Fiscal Year 2006

AGENCY: Office of the Assistant Secretary for Housing-Federal Housing Commissioner, HUD.

ACTION: Notice of funding awards.

SUMMARY: In accordance with section 102(a)(4)(C) of the Department of Housing and Urban Development Reform Act of 1989, this announcement notifies the public of Emergency Capital Repair Grant funding decisions made by the Department in Fiscal Year 2006. This announcement contains the names of the awardees and the amounts of the awards made available by HUD.

FOR FURTHER INFORMATION CONTACT: Mr. Willie Spearmon, Director, Office of Housing Assistance and Grant Administration, 451 7th Street, SW., Washington, DC 20410; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Emergency Capital Repair Grants Program is authorized by Section 202(b) of the Housing Act of 1959 (12 U.S.C. 1701q-2). Section 202b was amended to provide grants for ‘substantial capital repairs to eligible multifamily projects with elderly tenants that are needed to rehabilitate, modernize, or retrofit aging structures, common areas or individual dwelling units.' HUD accepted applications on a first-come, first-serve basis and awarded emergency capital repair grants until available amounts were expended.

The Catalog of Federal Domestic Assistance number for this program is 14.315.

The Emergency Capital Repair Grant is designed to provide funds to make emergency capital repairs to eligible multifamily projects owned by private nonprofit entities designated for occupancy by elderly tenants. The capital repair needs must relate to items that present an immediate threat to the health, safety, and quality of life of the tenants. The intent of these grants is to provide one-time assistance for emergency items that could not be absorbed within the project's operating budget and other project resources.

A total of $15,551,597 was awarded to 64 projects and 7,795 units. In accordance with section 102(a)(4)(C) of the Department of Housing and Urban Development Reform Act of 1989 (103 Stat. 1987. 42 U.S.C. 3545), the Department is publishing the grantees and amounts of the awards in Appendix A of this document.

Dated: March 19, 2007.
Brian Montgomery,
Assistant Secretary for Housing-Federal Housing Commissioner.

Appendix A—Emergency Capital Repair Grant Awardees FY 2006

Name of owner/sponsor | Name of development | City | State | Number of units | Dollar amount awarded | Repairs funded
Whatcom Council on Aging | Birchwood Manor Apartments | Seattle | WA | 30 | $76,282 | Correct severe erosion problem.
Four Freedom House of Seattle | Henry M. Jackson Apartments | Seattle | WA | 70 | 100,000 | Replace elevator.
SJ Strauss Lodge of B'Nai B'rith Housing | B'nai B'rith Apartments | Wilkes-Barre | PA | 163 | 347,150 | Replace two elevators, correct water flow systems, replace generator.
NNI Belltown Elderly HSNG | Belltown Manor Apartments | Stamford | CT | 164 | 390,000 | Replace windows and roof.
Council Apartments, Inc | Council Apartments | St. Louis | MO | 131 | 336,169 | Replace two elevators, replace cracked flue liner and boiler loop.
Ardmore Village Housing Corp | Ardmore Village, Phase II | Ardmore | OK | 38 | 315,361 | Correct structural failure of the foundation.
Evangelical Lutheran Good Samaritan | Goldbeck Towers | Hastings | NE | 105 | 361,979 | Replace elevators and windows.
Hilltop House Inc | Hilltop House | Seattle | WA | 124 | 180,740 | Replace hydronic building heat domestic hot water exchanger.
Cogic Memorial Home for the Elderly, Inc | Cogic High Rise Apartments | Norfolk | VA | 150 | 317,714 | Replace two elevators.
Louttit Manor, Inc | Louttit Manor Apartments | Daytona Beach | FL | 177 | 481,564 | Replace boiler, 12 air conditioning units, fan coils, piping, cooling tower, and roof.
Independent Housing I, Inc | Seniority House | Springfield | MA | 167 | 150,811 | Replace elevator systems, electrical buss bars.
Better Community HDFC, Inc | Saugerties Senior Housing | Saugerties | NY | 63 | 69,811 | Replace dangerous kitchen cabinets.
RLC Corp. | Lutheran Towers | Atlanta | GA | 205 | 489,113 | Replace fire alarm system, air conditioning and heating units.
Housing Authority of the City of Stockton | Valley View | Stockton | KS | 30 | 83,035 | Replace air conditioning and heating units.
Cathedral Square Housing, Inc | Cathedral Square Housing | Trenton | NJ | 100 | 128,200 | Replace leaking roof.
Telacu Housing | Telacu Terrace | Hawthorne | CA | 74 | 4,271 | Replace elevator door protector.
Telacu Plaza-South Park | Telacu Plaza | Los Angeles | CA | 39 | 316,288 | Replace roof, walls, sewer system, cooling tower, fire pump.
Telacu Senior HSG, Inc | Telacu Senior Housing | Hawthorne | CA | 75 | 341,014 | Repair structural component of the roof truss system.
Clairmont Oaks, Inc | Clairmont Oaks | Decatur | GA | 298 | 500,000 | Correct concrete exterior walls, replace roof.
Converse County Senior Housing, Inc | Payne Plaza | Douglas | WY | 24 | 121,500 | Replace existing lighting systems, replace chiller on air conditioning unit.
The Catholic Charities Housing, Inc. | Basilica Place Apartments | Baltimore | MD | 201 | 500,000 | Restoration of the building's brick façade.
Vineville Christian Towers | Vineville Christian Towers | Macon | GA | 196 | 376,344 | Replace windows, three water heaters, trash compactor.
Philip Towers, Decatur, Inc | Phillips Towers | Decatur | GA | 225 | 408,750 | Replace windows.
Stephen Smith Towers, Inc | Stephen Smith Towers | Philadelphia | PA | 140 | 442,873 | Replace HVAC and fan coil unit.
North 25 Housing | North 25 Housing Development | Trenton | NJ | 233 | 176,500 | Repair the air circulation system.
Golden Manor, Inc | Golden Manor I | Torrington | WY | 26 | 185,689 | Replace windows, patio doors, walkways, and furnaces.
Brookdale Village Housing Corp | Brookdale Village | Queens | NY | 547 | 500,000 | Replace four elevators.
Council Tower Association | Council Towers | St. Louis | MO | 225 | 500,000 | Replace elevators.
Catholic Housing of Mobile, Inc | Cathedral Place Apartments | Mobile | AL | 100 | 499,997 | Repair elevators, replace emergency call system and three compressors.
Federation Towers, Inc | Lupica Towers | Cleveland | OH | 278 | 321,900 | Repair two elevators.
Bethel New Life, Inc | Anathoth Gardens | Chicago | IL | 40 | 351,121 | Replace windows.
Trinity Park Inc | Trinity Park Housing | Livonia | MI | 40 | 165,363 | Replace roof, repair drainage system and sidewalks.
Broadview Towers, Inc | Broadview Towers | Emporia | KS | 60 | 120,276 | Replace elevator and windows.
Council of Elders Housing Corporation | Council Tower | Roxbury | MA | 145 | 138,923 | Replace two elevator doors.
Senior Citizens HDF of Steuben County | Clyde F. Simon Apartments | Bath | NY | 151 | 235,382 | Replace roofs, doors, and water heaters.
The Lesley Foundation | Bonnie Brae Terrace | Belmont | CA | 164 | 73,518 | Correct erosion problems.
Thomas Campbell Apartments, Inc | Thomas Campbell Apartments | Washington | PA | 136 | 39,268 | Correct erosion problems.
Marion Rotary Senior Citizens II, Inc | Marion Rotary Senior Citizens, Inc | Marion | OH | 153 | 180,323 | Replace windows.
Marion Rotary Senior Citizens II, Inc | Marion Rotary Senior Citizens, Inc II | Marion | OH | 45 | 294,331 | Replace windows.
St. Luke's Home Inc | St. Lukes | Middleton | CT | 26 | 17,731 | Replace windows.
Four Freedoms House of Philadelphia, Inc | Four Freedoms House of Philadelphia | Philadelphia | PA | 281 | 500,000 | Replace elevators, standpipes and fire systems.
Sacred Heart Retirement Community, Inc | Rose Commons | Vernon | CT | 31 | 37,879 | Replace windows, thermostats, fire alarm systems, sidewalks and entrance ramp.
Pleasant View Village, Inc | Pleasant View Village | Madison | KS | 16 | 44,300 | Replace the roof, gutters and downspouts, windows and doors.
New Milford Interfaith Housing, Inc | Butter Brook Hill Apartments | New Milford | CT | 102 | 357,779 | Replace two roofs.
Ogden House Inc | Ogden House | Wilton | CT | 85 | 160,092 | Replace elevators.
Panorama West, Inc | Panorama West | Covington | KY | 143 | 123,833 | Replace central chiller.
North Haven Interfaith Housing, Inc | Stevens Woods | North Haven | CT | 60 | 280,811 | Replace fire panel system, two boilers, sidewalks and parking lots.
River Park Elderly Housing Inc | River Park Elderly | Milford | CT | 39 | 91,207 | Replace zone valves on heating system, correct water seepage in units and hallways, and repair window frames.
Good Shepherd Retirement Apartments, Inc | Shalom Tower I | Mason City | IA | 79 | 54,806 | Replace tile liner in the chimney and tuckpoint chimney.
First Christian Church Apartments, Inc | The First Christian Church Apartments | Topeka | KS | 120 | 83,500 | Replace elevator cylinder.
The Salvation Army, A GA Corporation | Booth Towers | Cumberland | MD | 114 | 197,413 | Replace two elevators and waterlines and wrap heater/chiller pipes.
Sunset Retirement Home | Sunset Retirement Home South | Spencer | IA | 38 | 195,153 | Replace windows and undertake tuckpoint exterior walls.
Jennings Hall Senior Citizens H.D.F.C | Jennings Hall Senior Citizen housing | Brooklyn | NY | 150 | 51,948 | Replace ventilation system.
Temple Heights Manor, Inc | Temple Heights Manor I | Raytown | MO | 149 | 272,466 | Replace elevators.
Temple Heights Manor II | Temple Heights Manor II | Raytown | MO | 150 | 415,124 | Replace elevator and two roofs.
Worthington Senior Housing | The Maples | Worthington | MA | 12 | 130,884 | Repair water treatment system.
Salem Housing Development Corporation | JC Wade Senior Villa | Omaha | NE | 50 | 292,759 | Replace elevator, replace heating/cooling systems, roof and windows.
Bishop Broderick Housing Development Fund Company | Bishop Broderick Apartments | Albany | NY | 101 | 55,300 | Replace roof.
Salem Lodge of B'nai Brith | Abe Cramer Apartments | Harrisburg | PA | 196 | 480,875 | Repair two elevators, replace roof and generator.
Council for the Spanish Speaking | Santa Cruz Apartments | Milwaukee | WI | 33 | 14,396 | Repair existing elevator controller and door operator.
Wenatchee Brethren-Baptist Homes Inc | Garden Terrace | Wenatchee | WA | 76 | 84,263 | Repair elevator.
Four Freedoms House of Seattle, Inc | Four Freedoms House of Seattle | Seattle | WA | 281 | 224,648 | Repair fire alarm system.
St. Phillips on West 128th Street Corporation | St. Philips-Harlem Hospital | New York City | NY | 21 | 500,000 | Repair sanitary and storm sewer systems.
Flint Retirement Homes, Inc | Kearsely Manor | Flint | MI | 110 | 271,870 | Replace heating units, roof, and electronic elevator door detectors.

[FR Doc. E7-6164 Filed 4-2-07; 8:45 am]

BILLING CODE 4210-67-P